DEPARTMENT OF COMMERCE

United States Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Invention Promoters/Promotion Firms Complaints.

Form Number(s): PTO/SB/2048.

Agency Approval Number: 0651-0044.

Type of Request: Revision of a currently approved collection.

Burden: 18 hours annually.

Number of Respondents: 50 responses per year.

Avg. Hours per Response: The USPTO estimates that it will take the public approximately 15 minutes (0.25 hours) to gather the necessary information, prepare the form, and submit a complaint to the USPTO and approximately 30 minutes (0.5 hours) for an invention promoter or promotion firm to prepare and submit a response to a complaint.

Needs and Uses: The Inventors' Rights Act of 1999 requires the USPTO to provide a forum for the publication of complaints concerning invention promoters and responses from the invention promoters to these complaints. An individual may submit a complaint to the USPTO, which will then forward the complaint to the identified invention promoter for response. The complaints and responses are published on the USPTO Web site. The public uses this information collection to submit a complaint to the USPTO regarding an invention promoter or to respond to a complaint. The USPTO uses this information to comply with its statutory duty to publish the complaint along with any response from the invention promoter. The USPTO does not investigate these complaints or participate in any legal proceedings against invention promoters or promotion firms.

Affected Public: Individuals or households; businesses or other for-profits; and not-for-profit institutions.

Frequency: On occasion.

Respondent's Obligation: Voluntary.

OMB Desk Officer: Nicholas A. Fraser, email: Nicholas_A._Fraser@omb.eop.gov.

Once submitted, the request will be publicly available in electronic format through the Information Collection Review page at www.reginfo.gov.

Paper copies can be obtained by:

• Email: InformationCollection@uspto.gov. Include “0651-0044 copy request” in the subject line of the message.

• Mail: Susan K. Fawcett, Records Officer, Office of the Chief Information Officer, United States Patent and Trademark Office, P.O. Box 1450, Alexandria, VA 22313-1450.

Written comments and recommendations for the proposed information collection should be sent on or before December 7, 2012 to Nicholas A. Fraser, OMB Desk Officer, via email to Nicholas_A._Fraser@omb.eop.gov, or by fax to 202-395-5167, marked to the attention of Nicholas A. Fraser.

Dated November 2, 2012.
Susan K. Fawcett,
Records Officer, Office of the Chief Information Officer, USPTO.

[FR Doc. 2012-27224 Filed 11-6-12; 8:45 am]

BILLING CODE 3510-16-P